DEPARTMENT OF THE INTERIOR

National Park Service

[NPS-WASO-NAGPRA-NPS0037101; PPWOCRADN0-PCU00RP14.R50000]

Notice of Inventory Completion: U.S. Department of the Interior, National Park Service, Voyageurs National Park, International Falls, MN

AGENCY: National Park Service, Interior.

ACTION: Notice.

SUMMARY: In accordance with the Native American Graves Protection and Repatriation Act (NAGPRA), U.S. Department of the Interior, National Park Service, Voyageurs National Park (VOYA) has completed an inventory of human remains and has determined that there is no cultural affiliation between the human remains and any Indian Tribe. The human remains were removed from St. Louis County, MN.

DATES: Disposition of the human remains in this notice may occur on or after January 18, 2024.

ADDRESSES: Bob DeGross, Superintendent, Voyageurs National Park, 360 Hwy. 11 East, International Falls, MN 56649, telephone (218) 283-6600, email bob_degross@nps.gov.

SUPPLEMENTARY INFORMATION: This notice is published as part of the National Park Service's administrative responsibilities under NAGPRA. The determinations in this notice are the sole responsibility of the Superintendent, VOYA. Additional information on the determinations in this notice, including the results of consultation, can be found in the inventory or related records held by VOYA.

Description

Human remains representing, at minimum, three individuals were removed from St. Louis County, MN. The human remains were excavated by the National Park Service from a bundle burial on Wigwam Island (site 21SL183) that had been exposed due to erosion. Three individuals were identified, two adults and a child. The burial is dated as Middle to Late Woodland (200 BC—A.D. 1650). The thermoluminescence date for a fabric impressed body sherd recovered near, but not within, the burial is A.D. 1360 plus or minus 100 years. No associated funerary objects are present.

Aboriginal Land

The human remains in this notice were removed from known geographic locations. These locations are the aboriginal lands of one or more Indian Tribes. The following information was used to identify the aboriginal land: a treaty.

Determinations

Pursuant to NAGPRA and its implementing regulations, and after consultation with the appropriate Indian Tribes, VOYA has determined that:

• The human remains described in this notice represent the physical remains of at least three individuals of Native American ancestry.

• No relationship of shared group identity can be reasonably traced between the human remains and any Indian Tribe.

• The human remains described in this notice were removed from the aboriginal land of the Minnesota Chippewa Tribe, Minnesota (Bois Forte Band (Nett Lake)).

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after January 18, 2024. If competing requests for disposition are received, VOYA must determine the most appropriate requestor prior to disposition. Requests for joint disposition of the human remains are considered a single request and not competing requests. VOYA is responsible for sending a copy of this notice to the Indian Tribes identified in this notice.

Authority: Native American Graves Protection and Repatriation Act, 25 U.S.C. 3003, and the implementing regulations, 43 CFR 10.9 and § 10.11.

Dated: December 11, 2023.
Melanie O'Brien,
Manager, National NAGPRA Program.

[FR Doc. 2023-27804 Filed 12-18-23; 8:45 am]

BILLING CODE 4312-52-P